DEPARTMENT OF COMMERCE

Foreign-Trade Zones Board

[Docket 3-2010]

Foreign-Trade Zone 22—Chicago, IL; Application for Manufacturing Authority; LG Electronics MobileComm USA, Inc. (Cell Phone Kitting and Distribution); Bolingbrook, IL

An application has been submitted to the Foreign-Trade Zones Board (the Board) by the Illinois International Port District, grantee of FTZ 22, requesting manufacturing authority on behalf of LG Electronics MobileComm USA, Inc. (LGEMU), located in Bolingbrook, Illinois. The application was submitted pursuant to the provisions of the Foreign-Trade Zones Act, as amended (19 U.S.C. 81a-81u), and the regulations of the Board (15 CFR part 400). It was formally filed on January 14, 2010.

The LGEMU facility (20 employees, 17 acres, 38.9 million unit capacity) is located within Site 12 of FTZ 22. The facility is used for the cell phone kitting and distribution. Components and materials sourced from abroad (representing 90-95% of the value of the finished product) include: Cell phone batteries; cell phone chargers and adaptors; headphones; earphones; microphones; battery doors; cables; film packing materials; poly bags; blister packaging; master cartons; gift boxes; labels; bound instruction manuals; CD-ROM user guides; blue tooth units; paper inner trays; holsters; corrugated paper; and vinyl protective packaging sheets (duty rate ranges from duty free to 5.8%).

Under FTZ procedures, LGEMU would be able to choose the duty rates during customs entry procedures that apply to cell phone mobile handsets (duty free) for the foreign inputs noted above for its shipments to the U.S. market. LGEMU could also realize logistical benefits through the use of weekly customs entry procedures. Customs duties also could possibly be deferred or reduced on foreign status production equipment. The request indicates that the savings from FTZ procedures would help improve the plant's international competitiveness.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is March 29, 2010. Rebuttal comments in response to material submitted during the foregoing period may be submitted during the subsequent 15-day period to April 12, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Maureen Hinman at maureen.hinman@trade.gov or (202) 482-0627.

Dated: January 14, 2010.
Andrew McGilvray,
Executive Secretary.

[FR Doc. 2010-1622 Filed 1-26-10; 8:45 am]

BILLING CODE P